ENVIRONMENTAL PROTECTION AGENCY

40 CFR Part 52

[EPA-R03-OAR-2016-0592; FRL-9971-41-Region 3]

Approval and Promulgation of Air Quality Implementation Plans; Virginia; Amendment to Ambient Air Quality Standard for Ozone; Withdrawal

AGENCY: Environmental Protection Agency (EPA).

ACTION: Withdrawal of direct final rule.

SUMMARY: Due to adverse comments received, the Environmental Protection Agency (EPA) is withdrawing the October 16, 2017 direct final rule that approved a state implementation plan (SIP) revision submitted by the Commonwealth of Virginia to incorporate by reference the most recent federal ambient air quality standard for ozone into Virginia's SIP. EPA stated in the direct final rule that if EPA received adverse comments by November 15, 2017, the rule would be withdrawn and not take effect. EPA subsequently received adverse comments. EPA will address comments received in a subsequent final action based upon the proposed rulemaking action, also published on October 16, 2017. EPA will not institute a second comment period on this action.

DATES: The direct final rule published at 82 FR 47985 on October 16, 2017 is withdrawn as of December 7, 2017.

FOR FURTHER INFORMATION CONTACT: Gavin Huang, (215) 814-2042, or by email at huang.gavin@epa.gov.

SUPPLEMENTARY INFORMATION: On July 25, 2016, the Commonwealth of Virginia through the Virginia Department of Environmental Quality (VADEQ) submitted a formal revision to its SIP. The SIP revision sought to incorporate the 2015 ozone national ambient air quality standards (NAAQS) promulgated by EPA on October 26, 2015 (80 FR 65292) into the Virginia SIP. In the direct final rule published on October 16, 2017 (82 FR 47985), EPA stated that if EPA received adverse comments by November 15, 2017, the rule would be withdrawn and not take effect. EPA subsequently received adverse comments from anonymous commenters.

Because adverse comments were received, EPA is withdrawing the direct final rule approving the revisions to the Virginia SIP that incorporates the 2015 ozone NAAQS promulgated by EPA on October 16, 2017 (82 FR 47985). EPA will respond to the adverse comments in a separate final rulemaking action.

List of Subjects in 40 CFR Part 52

Environmental protection, Air pollution control, Incorporation by reference, Ozone.

Dated: November 17, 2017.
Cosmo Servidio,
Regional Administrator, Region III.

Accordingly, the amendment to § 52.2420(c) published on October 16, 2017 (82 FR 47985), which was to become effective December 15, 2017, is withdrawn as of December 7, 2017.

[FR Doc. 2017-26303 Filed 12-6-17; 8:45 am]

BILLING CODE 6560-50-P